DEPARTMENT OF AGRICULTURE

Agricultural Marketing Service

[Docket No. ST-03-01]

Plant Variety Protection Board; Open Meeting

AGENCY: Agricultural Marketing Service, USDA.

ACTION: Notice of meeting.

SUMMARY: This notice sets forth the schedule and proposed agenda of a forthcoming meeting of the Plant Variety Protection Board.

DATES: March 5 and 6, 2003, 8:30 a.m. to 5 p.m., open to the public.

ADDRESSES: The meeting will be held in the United States Department of Agriculture George Washington Carver Center, 5601 Sunnyside Avenue, Beltsville, Maryland.

FOR FURTHER INFORMATION CONTACT: Commissioner Paul M. Zankowski, Plant Variety Protection Office, Science and Technology Program, United States Department of Agriculture, 10301 Baltimore Blvd., Room 400, National Agricultural Library Building, Beltsville, Maryland 20705-2351, Telephone number (301) 504-5518 or fax (301) 504-5291.

SUPPLEMENTARY INFORMATION: Pursuant to the provisions of section 10(a) of the Federal Advisory Committee Act (Pub. L. 92-463, 5 U.S.C. App.), this notice is given regarding a Plant Variety Protection Advisory Board meeting. The board is constituted under section 7 of the Plant Variety Protection Act (7 U.S.C. 2327).

The proposed agenda for the meeting will include discussions of: (1) The process improvement (Six Sigma) plan, (2) the financial status of the Plant Variety Protection Office, (3) implementation of a quality assurance program, (4) potential relocation of the Plant Variety Protection Office, (5) plans for the migration of the existing database, (6) E-business plans and (7) other related topics. Written comments may be submitted to the contact person listed above before or after the meeting.

Upon entering the George Washington Carver Center, visitors should inform security personnel that they are attending the PVP Advisory Board Meeting. Identification will be required to be admitted to the building. Security personnel will direct visitors to the registration table located outside of Room 4-2223. Registration upon arrival is necessary for all participants.

If you require accommodations, such as sign language interpreter, please contact the person listed under “For Further Information Contact”. The meeting will be recorded, and information about obtaining a transcript will be provided at the meeting.

Dated: February 20, 2003.
A.J. Yates,
Administrator, Agricultural Marketing Service.

Agenda

Plant Variety Protection (PVP) Board Meeting, March 5 and 6, 2003, USDA, George Washington Carver Center 5601 Sunnyside Avenue, Beltsville, Maryland

March 5, 2003

Call to Order

Introductions

Opening Remarks

Adoption of Agenda

Adoption of November 2001 Board Meeting Minutes

Overview of the PVP Act and briefing on the PVP Office

Appeals to the Secretary of Agriculture

FY 2002 Accomplishment Report

Update on Business Process Improvement (Six Sigma) Plan

March 6, 2003

PVPO Financial Update

Discussion on the PVP Quality Assurance Program

PVP Office Relocation Discussion

Database Migration Plans

E-business Plans

Topics brought forward by Board members

Future Program Activities

Meeting Summary

Adjourn

[FR Doc. 03-4394 Filed 2-20-03; 1:33 pm]

BILLING CODE 3410-02-P